DEPARTMENT OF LABOR

Office of the Secretary

Submission for OMB Review; Comment Request

September 19, 2000.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ({202} 693-4127 or by E-mail to Kurz-Karin@dol.gov). To obtain documentation for ESA, MSHA, OSHA, and VETS contact Darrin King ({202} 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Pension and Welfare Benefits Administration.

Title: Voluntary Fiduciary Correction Program.

OMB Number: 1210-0118.

Affected Public: Individuals or households; Business or other for-profit; Not-for-profit institutions.

Frequency of Response: On occasion.

Total Respondents: 700.

Total Responses: 700.

Total Estimated Burden Hours: 5,600.

Total Annualized Capital/Startup Costs: $0.

Total Annual Cost (Operating and Maintenance): $294,000.

Description: On March 15, 2000, PWBA published a notice concerning its adoption of a Voluntary Fiduciary Correction Program (65 FR 14164), which allows certain persons to correct possible fiduciary breaches of Part 4 of Title I of ERISA, and to avoid potential civil actions initiated by the Department of Labor under the Employee Retirement Income Security Act of 1974 (ERISA), and the assessment of civil penalties under section 502(1) of ERISA. Although written comments on the VFC Program were accepted through May 15, 2000, the Department submitted the information collection request (ICR) included in the VFC Program to OMB under emergency provisions of the Paperwork Reduction Act of 1995 (44 U.S.C. 3501 et seq.) and 5 CFR 1320 and requested approval by April 14, 2000. OMB approved the ICR under control number OMB 1210-0118, on April 14, 2000. The approval will expire on September 30, 2000. The information collection provisions of the VFC Program generally require that documentation of the correction of a fiduciary breach be supplied to the Department. The ICR has now been submitted to OMB for an extension of this approval.

Ira L. Mills,
Departmental Clearance Officer.

[FR Doc. 00-24659 Filed 9-25-00; 8:45 am]

BILLING CODE 4510-29-M